DEPARTMENT OF COMMERCE

Economic Development Administration

Notice of National Advisory Council on Innovation and Entrepreneurship Meeting

AGENCY: Economic Development Administration, U.S. Department of Commerce.

ACTION: Notice of an open meeting.

SUMMARY: The National Advisory Council on Innovation and Entrepreneurship (NACIE) will hold a virtual public meeting on August 1, 2024. This will be the current NACIE members' sixth meeting since their appointments in 2022. During this meeting, NACIE expects to discuss strategies to unlock sources of capital to leverage federal investments and designations, including current and future Tech Hubs, aligned with the U.S. Department of Commerce's existing work in this area.

DATES: August 1, 2024, 2 p.m.-3 p.m. eastern time (ET).

ADDRESSES: The meeting will be held virtually with no in-person component. Please note that pre-clearance is required to make a statement during the public comment portion of the meeting. Please limit comments to five minutes or less and submit a brief statement summarizing your comments to Eric Smith (see contact information below) no later than 11:59pm ET on Friday, July 26, 2024. Virtual meeting connection information will be published prior to the meeting along with the agenda on the NACIE website at https://www.eda.gov/strategic-initiatives/national-advisory-council-on-innovation-and-entrepreneurship/meetings.

FOR FURTHER INFORMATION, CONTACT: Eric Smith, Office of the Assistant Secretary, 1401 Constitution Avenue NW, Room 72021, Washington, DC 20230; email: nacie@doc.gov; telephone: +1 202 482 8001. Please reference “NACIE August 2024 Meeting” in the subject line of your correspondence.

SUPPLEMENTARY INFORMATION: NACIE, established pursuant to section 25(c) of the Stevenson-Wydler Technology Innovation Act of 1980, as amended (15 U.S.C. 3720(c)), is a Federal Advisory Committee Act committee that provides advice directly to the Secretary of Commerce.

NACIE has been charged with developing a national entrepreneurship strategy that strengthens America's ability to compete and win as the world's leading startup nation and as the world's leading innovator in critical emerging technologies. NACIE also has been charged with identifying and recommending solutions to drive the innovation economy, including growing a skilled STEM workforce and removing barriers for entrepreneurs ushering innovative technologies into the market. The Council facilitates federal dialogue with the innovation, entrepreneurship, and workforce development communities. Throughout its history, NACIE has presented recommendations to the Secretary of Commerce along the research-to-jobs continuum, such as increasing access to capital, growing and connecting entrepreneurial communities, fostering small business-driven research and development, supporting the commercialization of key technologies, and developing the workforce of the future.

The final agenda for the meeting will be posted on the NACIE website at https://www.eda.gov/strategic-initiatives/national-advisory-council-on-innovation-and-entrepreneurship/meetings prior to the meeting. Any member of the public may submit pertinent questions and comments concerning NACIE's affairs at any time before or after the meeting to Eric Smith (see contact information above). Those wishing to listen to the proceedings can do so via teleconference or web conference (see above). Copies of the meeting minutes will be available by request within 90 days of the meeting date.

Dated: July 12, 2024.
Eric Smith,
Tech Hubs Program Director.

[FR Doc. 2024-15753 Filed 7-17-24; 8:45 am]

BILLING CODE 3510-24-P